DEPARTMENT OF COMMERCE

Economic Development Administration

Revolving Loan Fund Reporting Requirements

ACTION: Extension of an information collection; comment request.

SUMMARY: The Department of Commerce, as part of its continuing effort to reduce paperwork and respondent burden, invites the general public and other Federal agencies to take this opportunity to comment on proposed or continuing information collections, as required by the Paperwork Reduction Act of 1995, Public Law 104-13 (44 U.S.C. 3506(c)(2)(A)).

DATES: Written comments must be submitted on or before June 27, 2005.

ADDRESSES: Direct all written comments to Diana Hynek, Departmental Paperwork Clearance Officer, Department of Commerce, HCHB Room 6625, 1401 Constitution Avenue, NW., Washington, DC 20230, or via the Internet at dhynek@doc.gov.

FOR FURTHER INFORMATION CONTACT: Requests for additional information or copies of the information collection instruments and instructions should be directed to Kenneth M. Kukovich, EDA PRA Liaison, Office of Management Services, HCHB Room 7227, Economic Development Administration, Department of Commerce, 1401 Constitution Avenue, NW., Washington, DC 20230; telephone: (202) 482-0806.

SUPPLEMENTARY INFORMATION:

I. Abstract

The Economic Development Administration (EDA) provides investments that will help our partners (states, regions and local communities) across the nation create wealth and minimize poverty by promoting a favorable business environment to attract private capital investment and higher-skill, higher-wage jobs through world-class capacity building, infrastructure, business assistance, research grants and strategic initiatives.

EDA's revolving loan fund (RLF) reporting requirements (13 CFR § 308.14) are needed to ensure proper monitoring and compliance with program and administrative requirements, as set forth in EDA's authorizing legislation, the Public Works and Economic Development Act of 1965 (Pub. L. 89-136; 42 U.S.C. 3121 et seq.), as most recently amended by the Economic Development Administration Reauthorization Act of 2004 (Pub. L. 108-373). EDA's new implementing regulations are currently under OMB review. In the interim, EDA's existing regulations are in force at 13 CFR Chapter III.

II. Method of Collection

The RLF reporting requirements are used by EDA to monitor grantees' progress in establishing loan funds, making initial loans, collecting and relending the proceeds from loans, and compliance with time schedules and federal requirements for administering grants, and compliance with civil rights, environmental and other requirements prior to grant disbursement. The RLF reporting requirements are based on OMB administrative requirements for federal grants, as implemented by Department of Commerce (DOC) regulations at 15 CFR parts 14, 24, and 29. EDA's regulations at 13 CFR Chapter III are intended to supplement the DOC requirements and are not intended to replace or negate such requirements.

III. Data

OMB Number(s): 0610-0095.

Agency Form Numbers: ED-209A, ED-209S and ED-209I.

Type of Review: Extension of a currently approved collection of information.

Affected Public: State, local or Indian tribal governments and not-for-profit organizations.

Estimated Number of Respondents: 134 for the RLF Annual Report; 462 for the RLF Semi-annual Report; 336 for the Annual RLF Income and Expense Statement.

Estimated Time per Response: 12 hours for RLF reporting requirements (includes the RLF Annual Report and RLF Semi-annual Report at 12 hours each, and 2 hours per Annual RLF Income and Expense Statement).

Estimated Total Annual Burden Hours: 13,368 hours.

Estimated Total Annual Cost: $819,452.

IV. Request for Comments

Comments are invited on: (a) Whether the proposed collection of information is necessary for the proper performance of the functions of the agency, including whether the information shall have practical utility; (b) the accuracy of the agency's estimate of the burden (including hours and cost) of the proposed collection of information; (c) ways to enhance the equality, utility and clarity of the information to be collected; and (d) ways to minimize the burden of the collection of information on respondents, including through the use of automated collection techniques or other forms of information technology.

Comments submitted in response to this notice will be summarized and/or included in the request for OMB approval of this information collection; and they also will become a matter of public record.

Dated: April 21, 2005.
Madeleine Clayton,
Management Analyst, Office of the Chief Information Officer.

[FR Doc. 05-8364 Filed 4-26-05; 8:45 am]

BILLING CODE 3510-34-P